FEDERAL MARITIME COMMISSION

[Petition P3-03]

Petition of United Parcel Service, Inc. for Exemption Pursuant to Section 16 of the Shipping Act of 1984 To Permit Negotiation, Entry and Performance of Service Contracts; Extension of Time

Notice is hereby given that the Commission has determined to extend the due date for comments in reply to Petition No. P3-03 until October 10, 2003.

Bryant L. VanBrakle,
Secretary.

[FR Doc. 03-24188 Filed 9-22-03; 8:45 am]

BILLING CODE 6730-01-P